DEPARTMENT OF THE TREASURY

Office of Foreign Assets Control

Designation of Twenty-Nine (29) Individuals Pursuant to Executive Order 13573 of May 18, 2011, “Blocking Property of Senior Officials of the Government of Syria”

AGENCY: Office of Foreign Assets Control, Treasury.

ACTION: Notice.

SUMMARY: The Treasury Department's Office of Foreign Assets Control (“OFAC”) is publishing the names of twenty-nine (29) individuals whose property and interests in property are blocked pursuant to Executive Order 13573 of May 18, 2011, “Blocking Property of Senior Officials of the Government of Syria.”

DATES: The designation by the Director of OFAC of the twenty-nine (29) individuals identified in this notice, pursuant to Executive Order 13573, is effective on July 18, 2012.

FOR FURTHER INFORMATION CONTACT: Assistant Director, Compliance Outreach & Implementation, Office of Foreign Assets Control, Department of the Treasury, 1500 Pennsylvania Avenue NW., (Treasury Annex), Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On May 18, 2011, the President issued Executive Order 13573, “Blocking Property of Senior Officials of the Government of Syria,” (the “Order”) pursuant to, inter alia, the International Emergency Economic Powers Act (50 U.S.C. 1701-06). In the Order, the President took additional steps with respect to the national emergency declared in Executive Order 13338 of May 11, 2004, which was expanded in scope in Executive Order 13572 of April 29, 2011.

Section 1 of the Order blocks, with certain exceptions, all property and interests in property that are in the United States, that come within the United States, or that are or come within the possession or control of any United States person, of persons listed in the Annex to the Order and of persons determined by the Secretary of the Treasury, in consultation with the Secretary of State: (1) To be a senior official of the Government of Syria; (2) to be an agency or instrumentality of the Government of Syria, or owned or controlled, directly or indirectly, by the Government of Syria or by an official or officials of the Government of Syria; (3) to have materially assisted, sponsored, or provided financial, material, or technological support for, or goods or services in support of, any person whose property an interests in property are blocked pursuant to this order; or (4) to be owned or controlled by, or to have acted or purported to act for or on behalf of directly or indirectly, any person whose property and interest are blocked pursuant to this order.

On July 18, 2012, the Director of OFAC, in consultation with the Department of State, designated, pursuant to one or more of the criteria set forth in subsection 1(b) of the Order, twenty-nine (29) individuals whose property and interests in property are blocked pursuant to Executive Order 13573.

The listings for those individuals on OFAC's list of Specially Designated Nationals and Blocked Persons appear as follows:

Individuals

1. AHMAD AL-ABDULLAH, Subhi; DOB 1951; POB Idleb, Sryia; Minister of Agriculture and Agrarian Reform (individual) [SYRIA].

2. AL-WAZZ, Hazwan; DOB 1962; POB Damascus, Syria; Minister of Education (individual) [SYRIA].

3. IBRAHIM SAID, Mahmoud; DOB 1953; POB Lattakia, Syria; Minister of Transport (individual) [SYRIA].

4. SHUKRI KURDI, Fuad; DOB 1953; POB Aleppo, Syria; Minister of Industry (individual) [SYRIA].

5. YEHYA MOALLA, Mohammad; DOB 1951; POB Lattakia, Syria; Minister of Higher Education (individual) [SYRIA].

6. ZAFER MIHBEK, Mohammad; DOB 1945; POB Aleppo, Syria; Minister of Economy and Foreign Trade (individual) [SYRIA].

7. AL-JLEILATI, MOHAMMAD (a.k.a. AL-JILILATI, MOHAMMAD); DOB 1945; POB Damascus, Syria; Minister of Finance (individual) [SYRIA].

8. AHED AL-ZOUBI, Omran; DOB 1959; POB Damascus, Syria; Minister of Information (individual) [SYRIA].

9. AL-ASSAF, Safwan; DOB 1959; POB Hama, Syria; Minister of Housing and Urban Development (individual) [SYRIA].

10. AL-SIBAEI, Yasser; DOB 1951; POB Homs, Syria; Minister of Public Works (individual) [SYRIA].

11. FARAH SARKIS, Nazira; DOB 1962; POB Aleppo, Syria; Minister of State for Environment Affairs (individual) [SYRIA].

12. HAIDAR, Ali; DOB 1962; POB Hama, Syria; Minister of State for National Reconciliation Affairs (individual) [SYRIA].

13. MOHAMMAD ZAKARYA, Jassim; DOB 1968; POB Hasaka, Syria; Minister of Social Affairs and Labor (individual) [SYRIA].

14. MSHAWEH, Lubanah; DOB 1955; POB Damascus, Syria; Minister of Culture (individual) [SYRIA].

15. MU'ZI HNEIDI, Said; DOB 1954; POB Damascus, Syria; Minister of Oil and Mineral Resources (individual) [SYRIA].

16. AL-NASSER, Hala Mohammad; DOB 1964; POB Raqqa, Syria; Minister of Tourism (individual) [SYRIA].

17. AL-SAYYED, Mohammad Abdul-Sattar; DOB 1958; POB Tartus, Syria; Minister of Religious Endowments (individual) [SYRIA].

18. HABIB, Radwan; DOB 1962; POB Aleppo, Syria; Minister of Justice (individual) [SYRIA].

19. HANNA, Bassam; DOB 1954; POB Aleppo, Syria; Minister of Water Resources (individual) [SYRIA].

20. HIJAB, Riyad (a.k.a. HIJAB, Riyad Farid), Syria; DOB 1966; POB Deir Ezzor, Syria; Prime Minister (individual) [SYRIA].

21. JAMIL, Qadri (a.k.a. JAMIL, Kadri); DOB 1952; POB Damascus, Syria; Deputy Prime Minister for Economic Affairs; Minister of Internal Trade and Consumer Protection (individual) [SYRIA].

22. AL-HALQI, Wael Nader; DOB 1964; POB Daraa, Syria; Minister of Health (individual) [SYRIA].

23. AZZAM, Mansour Fadlallah; DOB 1960; POB Sweida, Syria; Minister of Presidential Affairs (individual) [SYRIA].

24. FARZAT, Hussein Mahmoud; DOB 1957; POB Hama, Syria; Minister of State (individual) [SYRIA].

25. GHALAWANJI, Omar Ibrahim; DOB 1954; POB Tartous, Syria; Deputy Prime Minister for Services Affairs; Minister of Local Administration (individual) [SYRIA].

26. KHAMIS, Imad Mohammad Deeb; DOB 01 Aug 1961; POB near Damascus, Syria; Minister of Electricity (individual) [SYRIA].

27. SABOUNI, Imad Abdul-Ghani (a.k.a. SABOUNI, Emad Abdul-Ghani); DOB 1964; POB Damascus, Syria; Minister of Communications and Technology (individual) [SYRIA].

28. SWEID, Joseph Jurji (a.k.a. SUWAID, Joseph); DOB 1958; POB Damascus, Syria; Minister of State (individual) [SYRIA].

29. MAYALEH, Adib (a.k.a. MAYALA, Adib); DOB 1955; POB Daraa, Syria; Governor of Central Bank of Syria (individual) [SYRIA].

Dated: July 18, 2012.
Adam Szubin,
Director, Office of Foreign Assets Control.

[FR Doc. 2012-18185 Filed 7-24-12; 8:45 am]

BILLING CODE 4811-AL-P